DEPARTMENT OF AGRICULTURE

Forest Service

Chippewa National Forest Resource Advisory Committee

AGENCY: Forest Service, USDA.

ACTION: Notice of meeting.

SUMMARY: The Chippewa National Forest Resource Advisory Committee will meet in Walker, Minnesota. The committee is meeting as authorized under the Secure Rural Schools and Community Self-Determination Act (Pub. L. 110-343) and in compliance with the Federal Advisory Committee Act. The purpose of the committee is to improve collaborative relationships and to provide advice and recommendations to the Forest Service concerning projects and funding consistent with the title II of the Act. The meeting is open to the public. The purpose of the meeting is to complete specific recommendations of projects for funding and implementation.

DATES: Thursday, June 2, 2011 at 9 a.m. central time.

ADDRESSES: The meeting will be held at the Chase on the Lake Hotel, Lower Conference Room, 502 Cleveland Boulevard, Walker, MN 56484. Written comments may be submitted as described under SUPPLEMENTARY INFORMATION.

All comments, including names and addresses when provided, are placed in the record and are available for public inspection and copying. The public may inspect comments received at the Chippewa National Forest Supervisors Office. Visitors are encouraged to call ahead to 218-335-8600 to facilitate entry into the building to view comments.

FOR FURTHER INFORMATION CONTACT: Kay K. Getting, Public Affairs Team Leader, Chippewa National Forest Supervisors Office, 218-335-8600. Individuals who use telecommunication devices for the deaf (TDD) may call the Federal Information Relay Service (FIRS) at 1-800-877-8339 between 8 a.m. and 8 p.m., Eastern Standard Time, Monday through Friday.

SUPPLEMENTARY INFORMATION: The following business will be conducted: Finalize the priority list of recommendations, identify future monitoring, recognition and closure of committee's work. Anyone who would like to bring related matters to the attention of the committee may file written statements with the committee staff before or after the meeting. The agenda will include time for people to make oral statements of three minutes or less. Individuals wishing to make an oral statement should request in writing by May 25, 2011 to be scheduled on the agenda. Written comments and requests for time for oral comments must be sent to Chippewa RAC, 200 Ash Avenue, NW., Cass Lake, MN 56633, or by e-mail to kgetting@fs.fed.us, or via facsimile to 218-335-8637.

The agenda and any applicable documents may be previewed at the Secure Rural Schools RAC Web site https://fsplaces.fs.fed.us/fsfiles/unit/wo/secure_rural_schools.nsf.

Dated: May 5, 2011.
Darla Lenz,
Chippewa National Forest Supervisor.

[FR Doc. 2011-11883 Filed 5-13-11; 8:45 am]

BILLING CODE 3410-11-P